DEPARTMENT OF JUSTICE

Drug Enforcement Administration

Manufacturer of Controlled Substances; Notice of Registration

By Notice dated April 6, 2001, and published in the Federal Register on April 17, 2001, (66 FR 19796), Gateway Specialty Chemicals Company, 4170 Industrial Drive, St. Peters, Missouri 63376, made application to the Drug Enforcement Administration (DEA) to be registered as a bulk manufacturer of phenylacetone (8501), a basic class of controlled substance listed Schedule II.

The firm plans to manufacture the controlled substance for its customers.

No comments or objections have been received. DEA has considered the factors in Title 21, United States Code, Section 823(a) and determined that the registration of Gateway Specialty Chemicals Company to manufacture is consistent with the public interest at this time. DEA has investigated Gateway Specialty Chemicals Company to ensure that the company's continued registration is consistent with the public interest. This investigation included inspection and testing of the company's physical security systems, verification of the company's compliance with state and local laws, and a review of the company's background and history. Therefore, pursuant to 21 U.S.C. 823 and 28 CFR 0.100 and 0.104, the Deputy Assistant Administrator, Office of Diversion Control, hereby orders that the application submitted by the above firm for registration as a bulk manufacturer of the basic class of controlled substance listed above is granted.

Dated: September 19, 2002.
Laura M. Nagel,
Deputy Assistant Administrator, Office of Diversion Control, Drug Enforcement Administration.

[FR Doc. 02-24345 Filed 9-24-02; 8:45 am]

BILLING CODE 4410-09-M